LEGAL SERVICES CORPORATION

Extension of Comment Period for Proposed Revisions to the Grant Terms and Conditions for Grant Year 2018 Basic Field Grants

AGENCY: Legal Services Corporation.

ACTION: Notice of extended comment period.

SUMMARY: The Legal Services Corporation (“LSC”) is extending the public comment period for the proposed Terms and Conditions (formerly the LSC Grant Assurances) for Grant Year 2018 Basic Field Grants. LSC published the original request for comments in the Federal Register on April 7, 2017. The proposed Terms and Conditions are available at http://www.lsc.gov/about-lsc/matters-comment. This notice extends the comment period for ten business days, from May 8, 2017, to May 22, 2017.

DATES: All comments must be received on or before the close of business on May 22, 2017.

ADDRESSES: You may submit comments by any of the following methods:

• Email: rweir@lsc.gov (preferred).

• Fax: (202) 337-6813.

• Mail: Legal Services Corporation, 3333 K Street NW., Washington, DC 20007.

All comments should be addressed to Rebecca D. Weir, Senior Assistant General Counsel, Legal Services Corporation. Include “2018 Basic Field Grant Terms and Conditions” as the heading or subject line for all comments submitted. LSC will not consider comments sent to another address or received after the deadline.

FOR FURTHER INFORMATION CONTACT: Rebecca D. Weir, Senior Assistant General Counsel, rweir@lsc.gov, (202) 295-1618.

SUPPLEMENTARY INFORMATION: In response to a recent request, LSC is extending the comment period for proposed changes to the Terms and Conditions for grant year 2018 Basic Field Grants. LSC originally announced a 30-day public comment period through a notice published in the Federal Register on April 7, 2017, 82 FR 17307 [FR Doc. 2017-06937]. LSC is extending the comment period by ten business days. Comments are now due on or before May 22, 2017.

LSC is revising its process for developing the Grant Assurances for the Basic Field Grant program. The Grant Assurances will be renamed the Grant Terms and Conditions and will become a part of the Request for Proposals to better notify Basic Field Grant applicants about the legal, regulatory, and contractual requirements of the grants. The Grant Terms and Conditions delineate LSC's and recipients' rights and responsibilities under the grant.

For grant year 2018, LSC has not made substantive changes to the grant year 2017 Grant Assurances/Terms and Conditions. LSC proposes adding several terms, however, including:

• Expanded explanations of the statutory restrictions on the use of LSC and non-LSC funds;

• Expanded explanations on the organizational governance and programmatic requirements that recipients of Basic Field Grant funds must follow;

• Explanation of governing law, venue, and mandatory mediation requirements;

• Prohibition on assigning a Basic Field Grant award to another organization;

• Explanation of intellectual property rights in products developed by a grantee using Basic Field Grant funds;

• Explanation of the grantor-grantee relationship between LSC and a successful applicant for funding;

• Standard integration, severability, and indemnification clauses; and

• Expanded explanation of enforcement procedures.

The 2018 Basic Field Grant Terms and Conditions are available for review at http://www.lsc.gov/about-lsc/matters-comment.

Dated: April 27, 2017.
Stefanie K. Davis,
Assistant General Counsel.

[FR Doc. 2017-08834 Filed 5-1-17; 8:45 am]

BILLING CODE 7050-01-P